DEPARTMENT OF COMMERCE

International Trade Administration

[A-583-837, A-533-824]

Polyethylene Terephthalate Film, Sheet, and Strip From Taiwan and India: Final Results of the Expedited Fourth Sunset Reviews of the Antidumping Duty Orders

AGENCY: Enforcement and Compliance, International Trade Administration, Department of Commerce.

SUMMARY: The U.S. Department of Commerce (Commerce) finds that revocation of the antidumping duty (AD) orders on polyethylene terephthalate film, sheet, and strip (PET Film) from Taiwan and India would be likely to lead to continuation or recurrence of dumping, at the levels indicated in the “Final Results of Sunset Reviews” section of this notice.

DATES: Applicable February 12, 2026.

FOR FURTHER INFORMATION CONTACT: David De Falco, Trade Agreements Policy and Negotiations, Enforcement and Compliance, International Trade Administration, U.S. Department of Commerce, 1401 Constitution Avenue NW, Washington, DC 20230; telephone: (202) 482-2178.

SUPPLEMENTARY INFORMATION:

Background

On July 1, 2002, Commerce published the Orders in the Federal Register.¹ On August 1, 2025, Commerce published the notice of initiation of these fourth sunset reviews of the Orders, pursuant to section 751(c) of the Tarriff Act of 1930, as amended (the Act), and 19 CFR 351.218(c).²

¹ See Notice of Amended Final Antidumping Duty Determination of Sales at Less Than Fair Value and Antidumping Duty Order: Polyethylene Terephthalate Film, Sheet, and Strip (PET Film) from Taiwan, 67 FR 44174, (July 1, 2002); see also Notice of Amended Final Antidumping Duty Determination of Sales at Less Than Fair Value and Antidumping Duty Order: Polyethylene Terephthalate Film, Sheet, and Strip from India, 67 FR 44175 (July 1, 2002) (collectively, Orders).

² See Initiation of Five-Year (Sunset) Reviews, 90 FR 36139 (August 1, 2025).

On August 18, 2025, Commerce received a timely and complete notice of intent to participate in these sunset reviews from the domestic interested parties ³ within the deadline specified in the 19 CFR 351.218(d)(1)(i).⁴ The domestic interested parties claimed the interested party status within the meaning of section 771(9)(C) of the Act as U.S. producers of the domestic like product.⁵ On August 22, 2025, Commerce notified the U.S. International Trade Commission (ITC) that it had received notices of intent to participate from the domestic interested parties.⁶

³ The domestic interested parties are Mitsubishi Chemical America, Inc.—Polyester Film Division (Mitsubishi) and Microworks America, Inc. (Microworks).

⁴ See Microwork's Letter, “Polyethylene Terephthalate (PET) Film, Sheet, and Strip From Taiwan: Notice of Intent to Participate in Sunset Review,” dated August 15, 2025; Mitsubishi's Letter, “Polyethylene Terephthalate (PET) Film, Sheet, and Strip From Taiwan: Notice of Intent to Participate in Sunset Review,” dated August 18, 2025; Microwork's Letter, “Polyethylene Terephthalate (PET) Film, Sheet, and Strip From India: Notice of Intent to Participate in Sunset Review,” dated August 15, 2025; and Mitsubishi's Letter, “Polyethylene Terephthalate (PET) Film, Sheet, and Strip From India: Notice of Intent to Participate in Sunset Review,” dated August 18, 2025.

⁵ Id.

⁶ See Commerce's Letter, “Sunset Reviews Initiated on August 1, 2025,” dated August 22, 2025.

On August 29, 2025, pursuant to 19 CFR 351.218(d)(3)(i), the domestic interested parties filed timely and adequate substantive responses.⁷ Commerce did not receive a substantive response from any respondent interested party. On September 23, 2025, Commerce notified the ITC that it did not receive substantive response from any respondent interested parties.⁸ As a result, pursuant to section 751(c)(3)(B) of the Act and 19 CFR 351.218(e)(1)(ii)(C)(2), Commerce is conducting expedited (120-day) sunset reviews of the Orders.

⁷ See Domestic Interested Parties' Letter, “Polyethylene Terephthalate (PET) Film, Sheet, and Strip from Taiwan: Substantive Response to the Notice of Initiation,” dated August 29, 2025; and Domestic Interested Parties' Letter, “Polyethylene Terephthalate (PET) Film, Sheet, and Strip from India: Substantive Response to the Notice of Initiation,” dated August 29, 2025.

⁸ See Commerce's Letter, “Sunset Review Initiated on August 1, 2025,” dated September 23, 2025.

Due to the lapse in appropriations and Federal Government shutdown, on November 14, 2025, Commerce tolled all deadlines in administrative proceedings by 47 days.⁹ Additionally, due to a backlog of documents that were electronically filed via Enforcement and Compliance's Antidumping and Countervailing Duty Centralized Electronic Service System (ACCESS) during the Federal Government shutdown, on November 24, 2025, Commerce tolled all deadlines in administrative proceedings by an additional 21 days.¹⁰ Accordingly, the deadline for these final results are now February 5, 2026.

⁹ See Memorandum, “Deadlines Affected by the Shutdown of the Federal Government,” dated November 14, 2025.

¹⁰ See Memorandum, “Tolling of all Case Deadlines,” dated November 24, 2025.

Scope of the Orders

The product covered by these Orders is PET film from Taiwan and India. For the full description of the scope of the Orders, see the Issues and Decisions Memorandum.¹¹

¹¹ See Memorandum, “Issues and Decision Memorandum for the Final Results of the Expedited Fourth Sunset Reviews of the Antidumping Duty Orders on Polyethylene Terephthalate Film, Sheet, and Strip from Taiwan and India,” dated concurrently with, and hereby adopted by, this notice (Issues and Decision Memorandum).

Analysis of Comments Received

A complete discussion of all issues raised in these sunset reviews, including the likelihood of continuation or recurrence of dumping in the event of revocation of the Orders and the magnitude of the margins likely to prevail if the Orders were to be revoked, is provided in the Issues and Decision Memorandum.¹² A list of the topics discussed in the Issues and Decision Memorandum is attached as an appendix to this notice. The Issues and Decision Memorandum is a public document and is on file electronically via ACCESS. ACCESS is available to registered users at https://access.trade.gov. In addition, a complete version of the Issues and Decision Memorandum can be directly accessed at https://access.trade.gov/public/FRNoticesListLayout.aspx.

¹² Id.

Final Results of Sunset Reviews

Pursuant to sections 751(c)(1), 752(c)(1) and (3) of the Act, Commerce determines that revocation of the Orders would be likely to lead to continuation or recurrence of dumping, and that the magnitude of the dumping margins likely to prevail would be weighted-average dumping margins up to 8.99 percent for Taiwan and 24.10 percent for India.

Notification Regarding Administrative Protective Order (APO)

This notice also serves as the only reminder to parties subject to an APO of their responsibility concerning the return or destruction of proprietary information disclosed under APO in accordance with 19 CFR 351.305. Timely notification of the return or destruction of APO materials, or conversion to judicial protective, orders is hereby requested. Failure to comply with the regulations and terms of an APO is a violation which is subject to sanction.

Notification to Interested Parties

We are issuing and publishing these final results in accordance with sections 751(c), 752(c), and 777(i)(1) of the Act, and 19 CFR 351.218 and 19 CFR 351.221(c)(5)(ii).

Dated: February 5, 2026.
Christopher Abbott,
Deputy Assistant Secretary for Policy and Negotiations, performing the non-exclusive functions and duties of the Assistant Secretary for Enforcement and Compliance.

Appendix

List of Topics Discussed in the Issues and Decision Memorandum

I. Summary

II. Background

III. Scope of the Orders

IV. History of the Orders

V. Legal Framework

VI. Discussion of the Issues

1. Likelihood of Continuation or Recurrence of Dumping

2. Magnitude of the Margins of Dumping Likely to Prevail

VII. Final Results of Sunset Reviews

VIII. Recommendation

IX.

[FR Doc. 2026-02851 Filed 2-11-26; 8:45 am]

BILLING CODE 3510-DS-P